DEPARTMENT OF COMMERCE

International Trade Administration

[A-570-873, A-791-815]

Ferrovanadium from the People's Republic of China and the Republic of South Africa: Notice of Postponement of Preliminary Antidumping Duty Determinations

AGENCY: Import Administration, International Trade Administration, Department of Commerce.

ACTION: Notice of Postponement of Preliminary Antidumping Duty Determinations.

EFFECTIVE DATE: April 24, 2002.

FOR FURTHER INFORMATION CONTACT: Mark Manning or Chris Brady, AD/CVD Enforcement, Office 4, Group II, Import Administration, International Trade Administration, U.S. Department of Commerce, 14th Street and Constitution Avenue NW, Washington, DC 20230; telephone (202) 482-5253 or (202) 482-4406, respectively.

SUMMARY: The Department of Commerce (the Department) is postponing the preliminary determinations in the antidumping duty investigations of ferrovanadium from the People's Republic of China and the Republic of South Africa from May 6, 2002, until June 25, 2002. This postponement is made pursuant to section 733(c)(1)(B) of the Tariff Act of 1930, as amended by the Uruguay Round Agreements Act.

SUPPLEMENTARY INFORMATION:

The Applicable Statute and Regulations

Unless otherwise indicated, all citations to the statute are references to the provisions effective January 1, 1995, the effective date of the amendments made to the Tariff Act of 1930 (the Act) by the Uruguay Round Agreements Act. In addition, unless otherwise indicated, all citations to the Department's regulations are to 19 CFR Part 351 (2001).

Background

On December 17, 2001, the Department initiated the above-referenced investigations. See Notice of Initiation of Antidumping Duty Investigations: Ferrovanadium from the People's Republic of China and the Republic of South Africa, 66 FR 66398 (December 26, 2001).

Postponement of Preliminary Determination

Currently, the preliminary determinations are due no later than May 6, 2002. However, pursuant to section 733(c)(1)(B) of the Act, we have determined that these investigations are “extraordinarily complicated” and are postponing the preliminary determinations by 50 days to June 25, 2002. Under section 733(c)(1)(B) of the Act, the Department can extend the period for reaching a preliminary determination until not later than the 190th day after the date on which the administering authority initiates an investigation if:

(B) The administering authority concludes that the parties concerned are cooperating and determines that

(i) the case is extraordinarily complicated by reason of

(I) the number and complexity of the transactions to be investigated or adjustments to be considered;

(II) the novelty of the issues presented; or

(III) the number of firms whose activities must be investigated; and

(ii) additional time is necessary to make the preliminary determination.

The parties concerned are cooperating in these investigations. Additional time is necessary, however, to complete the preliminary determinations due to the complexity of the transactions to be investigated and adjustments to be considered, and the novelty of issues presented.

With respect to the PRC, the Department needs to consider a number of complex issues that will impact our selection of the surrogate country. Ferrovanadium is produced by only a few countries that are all more economically advanced than the PRC, thus complicating our evaluation and determination of the appropriate surrogate country. We must also determine whether there exists a product that is comparable to ferrovanadium and, if so, whether such a product is produced in a country that is economically comparable to the PRC.

In regard to South Africa, on February 21, 2002, the petitioners alleged that during the POI Xstrata made sales below the cost of production (COP) in Germany, the country from which we will calculate normal value. On March 12 and 15, 2002, the petitioners submitted addenda to their cost allegation to include price and cost information placed on the record by Xstrata in its section A questionnaire response. We reviewed this allegation and initiated an investigation of sales below COP on March 26, 2002. In addition, Xstrata has a complex chain of distribution, involving multiple affiliated companies in South Africa, the United States, and Europe, for sales to the U.S. and German markets. We issued extensive supplemental questionnaires in order to understand the function of these companies in Xstrata's sales process. For these reasons, pursuant to section 733(c)(1)(B) of the Act, we are postponing the preliminary determinations in these investigations until June 25, 2002.

This notice is issued and published pursuant to section 733(c)(2) of the Act and 19 CFR 351.205(f).

Dated: April 17, 2002
Bernard T. Carreau,
Acting Assistant Secretary for Import Administration.

[FR Doc. 02-10067 Filed 4-23-02; 8:45 am]

BILLING CODE 3510-DS-S